DEPARTMENT OF AGRICULTURE

Forest Service

Notice of Resource Advisory Committee Meeting

AGENCY: Lassen Resource Advisory Committee, Susanville, California, USDA Forest Service.

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Thursday, September 11, 2003, in Susanville, California for a field trip and field business meeting. The meetings are open to the public.

SUPPLEMENTARY INFORMATION: The field trip departs the Lassen National Forest Headquarters Office, 2550 Riverside Drive, Susanville, CA 96130 at 8:15 a.m. and the field business meeting starts at 1 p.m at Willow Creek Campground on the Modoc National Forest off Highway 139 on September 11, 2003. Agenda topics will include: Review previous meeting minutes and approve, RAC member/sub-committee reports, Additional funds remaining from projects, Timeframes to complete projects and set limits, Review November RAC Meeting Proposal and finalize, Review Monitoring Reports, Report on Chico Flat Field Trip, Proposed agenda for next meeting, and Depart for home. Time will also be set aside for public comments at the end of the meeting.

FOR FURTHER INFORMATION CONTACT: Contact Robert Andrews, Eagle Lake District Ranger and Designated Federal Office, at (530) 257-4188; or RAC Coordinator, Heidi Perry, at (520) 252-6604.

Edward C. Cole,
Forest Supervisor.

[FR Doc. 03-22616 Filed 9-4-03; 8:45 am]

BILLING CODE 3410-11-M